DEPARTMENT OF DEFENSE

Department of the Army; Corps of Engineers

Notice of Intent To Prepare an Environment Impact Statement for the Proposed Mississippi River Reintroduction Into the Maurepas Swamp Diversion Project, Near Garyville, Louisiana, in St. John the Baptist, St. James, and Ascension Parishes

AGENCY: Department of the Army, U.S. Army Corps of Engineers, DoD.

ACTION: Notice of intent.

SUMMARY: The U.S. Army Corps of Engineers (USACE), New Orleans District intends to prepare an Environmental Impact Statement (EIS) to inform a decision on a Department of the Army (DA) permit application pursuant to Section 404 of the Clean Water Act (CWA) and Section 10 of the Rivers and Harbors Act, and permissions request under 33 U.S.C. 408, submitted by the Coastal Protection and Restoration Authority of Louisiana (CPRA) for the Mississippi River Reintroduction into the Maurepas Swamp (MRRMS) freshwater diversion project (proposed project). The USACE has determined the proposed project will result in significant impacts to the human environment, therefore an EIS is necessary to ensure compliance with the National Environmental Policy Act (NEPA) and as a basis for both the permit decision and the Section 408 permissions.

The DA permit and the 408 permissions are two separate processes with different authorities analyzed by different mission areas (including Regulatory and Civil Works) inside the USACE. Under Section 404 of the CWA and Section 10 of the Rivers and Harbors Act, the District Engineer permits the discharge of dredged or fill material into the waters of the United States as well as work, to include the installation and maintenance of structures, in navigable waters of the U.S., if the discharge meets the requirements of the Environmental Protection Agency's 404(b)(1) guidelines, and the proposal is determined to not be contrary to the overall public interest. Under 33 U.S.C. 408, the Chief of Engineers grants permission to alter, modify, or impair an existing USACE project if it is not injurious to the public interest and does not impair the usefulness of such work. The proposed project involves structural crossings of the Federal Mississippi River and Tributaries (MR&T) Levee and could potentially impact the Mississippi River Navigation Channel, the future footprint of the Federal West Shore Lake Pontchartrain Hurricane and Storm Damage Risk Reduction System levee project as well as other Federal projects. USACE Regulatory and Civil Works will coordinate on all aspects of the production of the EIS.

ADDRESSES: Please send written comments to Kenny Blanke, U.S. Army Corps of Engineers, New Orleans District, Regulatory Branch (CEMVN-OD-SC), P.O. Box 60267, New Orleans, LA 70160 or by email at CEMVN-Maurepas@usace.army.mil.

FOR FURTHER INFORMATION CONTACT: Questions about the DA permit, project and EIS should be directed to: Mr. Kenny Blanke at (504) 862-1217, or the email above. Questions on the 408 permissions should be directed to: Mr. Nathan Dayan at (504) 862-2530 or at the email above.

SUPPLEMENTARY INFORMATION:

1. Authority: Section 10 of the Rivers and Harbors Act of 1899 (33 U.S.C. 403); Section 14 of the Rivers and Harbors Act of 1899 (33 U.S.C. 408); Section 404 of the Clean Water Act (33 U.S.C. 1344); and, Section 102 of the National Environmental Policy Act (42 U.S.C. 4332).

2. Proposed Project. The USACE will prepare an EIS to analyze the impacts of diverting sediment/nutrient laden Mississippi River water into the southern Maurepas Swamp. CPRA has stated that the proposed project purpose is to restore portions of the southern Maurepas Swamp that are degrading due to cypress-tupelo stress and loss by addressing the existing conditions of subsidence, permanent flooding, salt stress, and sediment/nutrient starvation. The proposed project is located along the left descending bank of the Mississippi River at approximate river mile 144, in St. John the Baptist Parish, LA. The proposed project entails the construction of an intake channel that would be excavated in the Mississippi River batture, a gated structure to be built through the Mississippi River federal levee, and three (3) 10-foot x 10-foot culverts to be installed to convey river water under the levee and LA Highway 44. The culverts would then discharge into a sand settling basin, connected to an approximate 5.5-mile long banked conveyance channel which would divert flow northerly to Hope Canal and into the Maurepas Swamp. The diversion channel has proposed culvert crossings at its intersection with the existing Canadian National Railway and the Kansas City Southern Railway, as well as US Highway 61. North of US Highway 61, the channel would then follow the existing Hope Canal alignment to finally distribute the diverted water into the forested wetlands approximately 1,000 feet north of Interstate 10. Other ancillary features of this project include the construction of a drainage pumping station at the confluence of Hope Canal and Bourgeois Canals to maintain the existing storm water drainage capacity for the community of Garyville, Louisiana, the relocation/construction of a new Hope Canal public boat launch, the installation of rock weirs at the Blind River, Bourgeois Canal, Bayou Secret, the creation of five (5) cuts in the abandoned railroad embankment north of Interstate 10 and east of the Blind River, and the installation of ten (10) check valves along the north side of Interstate 10 on the existing culverts under the interstate. Four (4) lateral relief valves are proposed to be constructed off the water conveyance channel, north of the proposed pumping station and south of Interstate 10, each having two (2) 24-inch metal pipes with 24-inch knife gate valves to divert water to the west and east of the proposed channel into the Maurepas Swamp.

USACE Regulatory prepared an Environmental Assessment (EA) that documented potential direct, secondary, and cumulative effects the proposed project would have on the social, physical, and natural environments of the project area. Information used in the preparation of the EA was developed by the applicant and/or independently by the USACE. In summary, the proposed project would have the potential for direct adverse impacts of approximately ±140 acres of jurisdictional wetlands and ±20 acres of jurisdictional “Other Waters of the U.S.” In addition, CPRA has stated that the proposed project would provide a direct restoration benefit to approximately 36,120 acres of forested freshwater swamp habitat as a result of project implementation. USACE Regulatory concluded that the proposed project will result in significant impacts to the human environment. The National Environmental Policy Act (NEPA) requires the preparation of an EIS for proposals that are subject to federal funding, control, responsibility, and permitting, and which have the potential for significant impacts.

3. Alternatives. The EIS will include an evaluation of a reasonable range of alternatives. Currently, the following alternatives are expected to be analyzed in detail: The “no-build” alternative (no permit issued), the applicant's preferred project (proposed project), and other alternatives that will address an array of conveyance and delivery of fresh water, nutrients, and sediment from the Mississippi River to help reverse and improve the viability of the southern Maurepas Swamp. Some alternatives may be brought forward from existing studies and projects including the Coastal Wetlands Planning, Protection and Restoration Act (CWPPRA) Program, Louisiana Coastal Area (LCA) Ecosystem Restoration Study, the 2012 Louisiana Coastal Master Plan, and other alternatives may be developed through the NEPA scoping process.

4. Scoping. Scoping is the process utilized for determining the range of alternatives and significant issues to be addressed in the EIS. The USACE invites full public participation to promote open communication on the issues surrounding the proposed project. All Federal, state, and local agencies, NGOs, and other persons or organizations that have an interest are urged to participate in the NEPA scoping process. A public meeting will be held to present information to the public, to help identify significant issues and to receive public input and comment into the scoping process. Public scoping meetings for both processes will be conducted jointly. The date, time and location of the scoping meeting have not been determined. The public will be notified of the scoping meeting information by separate public notice posted on the New Orleans District Web page (listed below). The dates, times and locations of the scoping meeting will be determined in conjunction with CPRA at a later date and announced through local media channels as well as the Regulatory public notice Web site: http://www.mvn.usace.army.mil/Missions/Regulatory/PublicNotices.aspx. The USACE' scoping process for the EIS includes a public involvement program with several opportunities to provide oral and written comments. In addition to public meetings and notifications in the Federal Register, the USACE will issue public notices when the draft and final EISs are available. Affected federal, state, and local agencies, Native American tribes, and other interested private organizations and parties are invited to participate.

5. Significant issues. The EIS will analyze the potential social, economic, and natural environmental impacts to the local area resulting from the proposed project. Important resources and issues that will be evaluated in the EIS could include, but would not be limited to, effects on wetlands and other waters of the U.S.; aquatic resources; drainage patterns; air quality; water quality; suspended particulates/turbidity; flood control functions; special aquatic sites; fish and wildlife habitat; threatened and endangered species and critical habitat; biological availability of possible contaminants; floodplain use; aesthetics; traffic/transportation patterns; land use changes; public safety; economics; noise; consideration of private property; commercial and recreational fisheries; cultural resources; alternatives; secondary and cumulative impacts; and environmental justice (effect on minorities and low income populations). Socioeconomic issues include: Navigation; induced flooding; land use; property values; tax revenues; population and housing, community and regional growth; community cohesion; public services, recreation, utilities and community service systems and cumulative effects of related projects in the study area.

6. Environmental Consultation and Review. The U.S. Fish and Wildlife Service (Service) will assist in documenting existing conditions and assessing effects of project alternatives through the Fish and Wildlife Coordination Act consultation procedures. Other environmental review and consulation requirements for the proposed project include the need for the applicant to obtain water quality certification under Section 401 of the Clean Water Act from the Louisiana Department of Environmental Quality. In addition, because the proposed project may affect federally listed species, the USACE will consult with the Service and the National Marine Fisheries Service (NMFS) in accordance with Section 7 of the Federal Endangered Species Act. The NMFS will be consulted regarding the effects of this proposed project on Essential Fish Habitat per the Magnuson-Stevens Act. The USACE will also be consulting with the State Historic Preservation Officer under 106 of the National Historic Preservation Act concerning properties listed, or potentially eligible for listing.

The USACE will serve as the lead Federal agency in the preparation of the EIS. Other federal and/or state agencies may participate as cooperating and/or commenting agencies throughout the EIS process.

The USACE will use a “third party contractor” to prepare all or part of the EIS or to obtain required information (40 CFR 1500-1508). “Third party contract” refers to the preparation of the EIS by a contractor paid by the applicant but who is selected and supervised directly by the district engineer. Contractor election by the USACE for a Regulatory Program EIS will be as follows: The USACE will select from the applicant's list the first contractor that is fully acceptable to the USACE, using the applicant's order of preference; this selection is finalized by the applicant's selection of the same contractor. The procedures outlined in 40 CFR 1500-1508 and CEQ's forty questions must be followed. Furthermore, the USACE is responsible for final acceptance of the draft and final EIS.

7. Availability. The Draft EIS (DEIS) is expected to be available for public comment and review no sooner than the spring of 2016. At that time, a 45-day public review period will be provided for individuals and agencies to review and comment on the DEIS. All interested parties are encouraged to respond to this notice and provide a current address if they wish to be notified of the DEIS circulation.

Brenda S. Bowen,
Army Federal Register Liaison Officer.

[FR Doc. 2014-25869 Filed 10-30-14; 8:45 am]

BILLING CODE 3720-58-P